DEPARTMENT OF HEALTH AND HUMAN SERVICES

Centers for Disease Control and Prevention

Draft Public Health Action Plan To Combat Antimicrobial Resistance; Correction

In the notice document appearing on page 38832 in the Federal Register issue of Thursday, June 22, 2000, make the following corrections:

On page 38833 under both headings FOR FURTHER INFORMATION CONTACT and ADDRESSES the fax number should read: 404/371-5489; the URL is: http://www.cdc.gov/drugresistance/actionplan/.

Dated: June 26, 2000.
Thena M. Durham,
Director, Executive Secretariat, Centers for Disease Control and Prevention.

[FR Doc. 00-16548 Filed 6-29-00; 8:45 am]

BILLING CODE 4163-18-P